DEPARTMENT OF COMMERCE

National Oceanic and Atmospheric Administration

RIN 0648-XA037

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, December 6-14, 2010, in Anchorage, AK.

DATES: The Council will begin its plenary session at 8 a.m. on Wednesday, December 8 continuing through Tuesday, December 14. The Council's Advisory Panel (AP) will begin at 8 a.m., Monday, December 6 and continue through Friday, December 10. The Scientific and Statistical Committee (SSC) will begin at 8 a.m. on Monday, December 6 and continue through Wednesday, December 8, 2010. The Enforcement Committee will meet Tuesday, December 7 from 1 p.m. to 5 p.m. All meetings are open to the public, except executive sessions.

ADDRESSES: The meetings will be held at the Hilton Hotel, 500 W Third Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

Reports:

1. Executive Director's Report (including Statement of Practices and Procedures (SOPPs) revisions; report on Regional Ocean Partnerships/Marine Spatial Planning; and Coast Guard Bill).

NMFS Management Report.

ADF&G Report.

NOAA Enforcement Report.

5USCG Report.

USFWS Report.

Protected Species Report.

2. Steller Sea Lion Issues: Receive report final Biological opinion (BiOp)/Reasonable and Prudent Alternative (RPA); discuss Center of Independent Experts (CIE) review); discuss comprehensive science review options.

3. Bering Sea Aleutian Island (BSAI) Crab Management: Initial Review/Final Action on BSAI Crab Emergency Relief; Initial Review on BSAI Crab Right of First Refusal (ROFR); Receive report on BSAI Crab Rationalization 5-year review; Initial review of Pribliof Blue King Crab Rebuilding Plan; NOAA-Bering Sea Fisheries Research Foundation survey snow crab selectivity analysis (SSC only).

4. Salmon Fishery Management Plan (FMP): Review discussion paper.

5. Halibut/Sablefish Individual Fishing Quota (IFQ) Program: Initial review Community Quota Entity (CQE) area 3A purchase of D category halibut quota; Review discussion paper on CQE in Area 4B; Initial review/final action to add up to four new eligible CQE communities; Initial review/Final action on Area 4B D shares on C vessels.

6. GOA Chinook Salmon Bycatch: Review discussion paper.

7. Amendment 80 Groundfish Retention Standards (GRS) Program Changes: Initial Review of analysis.

8. Groundfish Specifications: Approve final BSAI groundfish specifications and Stock Assessment Fishery Evaluation (SAFE) reports; Approve final GOA groundfish specifications and SAFE reports.

9. Groundfish Management: Review discussion paper on Pacific Cod Jig Fishery Management; review discussion paper on Gulf of Alaska (GOA) Halibut Prohibited Species Catch (PSC); initial review of Hagemeister Island closures for walrus.

10. Staff Tasking: Review Committees and tasking (including charter permit leasing discussion.

11. Other Business.

The SSC agenda will include the following issues:

1. BSAI Crab Management.

2. Amendment 80 GRS.

3. Groundfish Specifications.

4. Hagemeister Island closures.

The Advisory Panel will address most of the same agenda issues as the Council, except for #1 reports. The Agenda is subject to change, and the latest version will be posted at http://www.alaskafisheries.noaa.gov/npfmc/.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: November 9, 2010.
Tracey L. Thompson,
Acting Director, Office of Sustainable Fisheries, National Marine Fisheries Service.

[FR Doc. 2010-28610 Filed 11-12-10; 8:45 am]

BILLING CODE 3510-22-P